DEPARTMENT OF THE INTERIOR

[18XD4523WT_DS64950000_DWT000000.000000_DP.64920, OMB Control Number 1090-0008]

Agency Information Collection Activities; E-Government Website Customer Satisfaction Surveys (Formerly American Customer Satisfaction Index (ACSI) E-Government Website Customer Satisfaction Surveys)

AGENCY: Office of the Secretary, Office of Strategic Employee and Organization Development, Federal Consulting Group, Interior.

ACTION: Notice of information collection; request for comment.

SUMMARY: In accordance with the Paperwork Reduction Act of 1995, we, the Federal Consulting Group are proposing to renew an information collection.

DATES: Interested persons are invited to submit comments on or before May 1, 2018.

ADDRESSES: Send your written comments by facsimile to (202) 395-5806 or email (OIRA_Submission@omb.eop.gov) to the Office of Information and Regulatory Affairs, Office of Management and Budget, Attention: Desk Office for the Department of the Interior (1090-0008). Also, please send a copy of your comments to Federal Consulting Group, Attention: Lucy Adams, 1849 C St. NW, MS 4344, Washington, DC 20240-0001, or by facsimile to (202) 513-5184, or via email to luciana_adams@ios.doi.gov. Individuals providing comments should reference Customer Satisfaction Surveys (OMB ID: 1090-0008).

FOR FURTHER INFORMATION CONTACT: To request additional information or copies of the form(s) and instructions, please write to the Federal Consulting Group, Attention: Lucy Adams, 1849 C St. NW, MS4344, Washington, DC 20240-0001 or call (202) 513-7679. You may also review the information collection request online at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Federal Consulting Group; (2) will this information be processed and used in a timely manner; (3) is the estimate of burden accurate; (4) how might the Federal Consulting Group enhance the quality, utility, and clarity of the information to be collected; and (5) how might the Federal Consulting Group minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Office of Management and Budget regulation at 5 CFR 1320, which implements the provisions of the Paperwork Reduction Act of 1995 (Pub. L. 104-13), require that interested members of the public and affected agencies have an opportunity to comment on information collection and recordkeeping activities [see 5 CFR 1320.8(d)]. The Office of Strategic Employee and Organization Development, Federal Consulting Group has submitted a request to Office of Management and Budget to renew its approval of this collection of information for three years.

This information collection activity provides a means to consistently assess, benchmark, and improve customer satisfaction with Federal government agency websites within the Executive Branch. The Federal Consulting Group of the Department of the Interior serves as the executive agent for this methodology and has partnered with ForeSee to offer this assessment to federal agencies.

ForeSee is a leader in customer satisfaction and customer experience management on the web and related media. Its methodology (Customer Experience Analytics or CXA) is a derivative of one of the most respected, credible, and well known measures of customer satisfaction in the country, the American Customer Satisfaction Index (ACSI). The ForeSee CXA methodology combines survey data and a patented econometric model to precisely measure the customer satisfaction of website users, identify specific areas for improvement, and determine the impact of those improvements on customer satisfaction and future customer behaviors.

The ForeSee CXA is the only cross-agency methodology for obtaining comparable measures of customer satisfaction with Federal Government websites. The ultimate purpose of ForeSee CXA is to help improve the quality of goods and services available to American citizens, including those from the Federal government.

The E-Government website Customer Satisfaction Surveys will be completed subject to the Privacy Act of 1974, Public Law 93-579, December 31, 1974 (5 U.S.C. 522a). The agency information collection will be used solely for the purpose of the survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly selected respondents from among established systems of records provided for such routine uses.

Further, the information will enable Federal agencies to determine customer satisfaction metrics with discrimination capability across variables. Thus, this information collection will assist Federal agencies in making the best use of resources in a targeted manner to improve service to the public.

This survey asks no questions of a sensitive nature, such as sexual behavior and attitudes, religious beliefs, or other matters that are commonly considered private.

An agency may not conduct or sponsor, and a person is not required to respond to, a collection of information unless it is operating under a currently valid Office of Management and Budget control number. The Office of Management and Budget control number for this collection is 1090-0008. The control number will be displayed on the surveys used. For expeditious administration of the surveys, the expiration date will not be displayed on the individual instruments. Response to the surveys is voluntary.

Title of Collection: American Customer Satisfaction Index (ACSI) E-Government website Customer Satisfaction Surveys.

OMB Control Number: 1090-0008.

Form Number: None.

Type of Review: Extension of a currently approved collection.

Respondents/Affected Public: Individuals, Business, and State, Local, or Tribal Governments who have visited Federal Government websites.

Total Estimated Number of Annual Respondents: Participation by Federal agencies will vary as new websites are added or deleted. However, based on our experience from the previous three-year approval period, the number of surveys has been very consistent with little change and estimate for the next three years are as follows:

Average Expected Annual Number of Customer Satisfaction Surveys: 250 with 5,000 respondents per survey.

Total Estimated Number of Annual Responses: 1,250,000.

Estimated Completion Time per Response: 2.5 minutes.

Total Estimated Number of Annual Burden Hours: 52,083.

Respondent's Obligation: Voluntary.

Frequency of Collection: Once per survey.

Total Estimated Annual Nonhour Burden Cost: None.

An agency may not conduct or sponsor and a person is not required to respond to a collection of information unless it displays a currently valid OMB control number.

The authority for this action is the Paperwork Reduction Act of 1995 (44 U.S.C. 3501 et seq.).

Jessica Reed,
Director, Federal Consulting Group.

[FR Doc. 2018-04215 Filed 3-1-18; 8:45 am]

BILLING CODE 4334-63-P